DEPARTMENT OF COMMERCE

National Oceanic and Atmospheric Administration

Hydrographic Services Review Panel Meeting

AGENCY: National Ocean Service, National Oceanic and Atmospheric Administration (NOAA), Department of Commerce.

ACTION: Notice of open meeting.

SUMMARY: The Hydrographic Services Review Panel (HSRP) was established by the Secretary of Commerce to advise the Under Secretary of Commerce for Oceans and Atmosphere on matters related to the responsibilities and authorities set forth in section 303 of the Hydrographic Services Improvement Act of 1998, its amendments, and such other appropriate matters that the Under Secretary refers to the Panel for review and advice.

Date and Time: The meeting will be held Thursday, May 25, 2006, from 8:30 a.m. to 4:30 p.m.

Location: The Consortium for Oceanographic Research and Education, 1201 New York Avenue, NW., Suite 420, Washington, DC 20005 (202) 332-0063. The times and agenda topics are subject to change. Refer to the Web site listed below for the most up-to-date meeting agenda.

FOR FURTHER INFORMATION CONTACT: Captain Roger L. Parsons, NOAA, Designated Federal Official (DFO), Office of Coast Survey, National Ocean Service (NOS), NOAA (N/CS), 1315 East West Highway, Silver Spring, Maryland 20910; Telephone: 301-713-2770, Fax: 301-713-4019; e-mail: Hydroservices.panel@noaa.gov or visit the NOAA HSRP Web site at http://nauticalcharts.noaa.gov/ocs/hsrp/hsrp.htm.

SUPPLEMENTARY INFORMATION: The meeting will be open to the public and verbal comments and questions will be accepted at the end of the day with a 30-minute period that will be extended if needed. Each individual or group making a verbal presentation will be limited to a total time of five (5) minutes. Written comments (at least 30 copies) should be submitted to the DFO by May 18, 2006. Written comments received by the DFO after May 18, 2006, will be distributed to the HSRP, but may not be reviewed prior to the meeting date. Approximately 20 seats will be available for the public, on a first-come, first-served basis.

Matters to Be Considered: (1) Deliberations on HSRP Workgroup Recommendations Regarding NOAA-related Issues for Consideration by the Committee on the Marine Transportation System (CMTS) and NOAA's Navigation Services Role in Responding to Incidents of National Significance, (2) NOAA's Navigation Services Priorities Relative to the Integrated Ocean Observing System (IOOS), (3) Recommended Revisions to the Hydrographic Services Improvement Act of 2002 (which expires in 2007) and, (4) Public Statements.

Dated: April 14, 2006.
Roger L. Parsons,
Director, Office of Coast Survey, National Ocean Service, National Oceanic and Atmospheric Administration.

[FR Doc. E6-6310 Filed 4-26-06; 8:45 am]

BILLING CODE 3510-JE-P